ARCHITECTURAL AND TRANSPORTATION BARRIERS COMPLIANCE BOARD

Meeting

AGENCY: Architectural and Transportation Barriers Compliance Board.

ACTION: Notice of meeting.

SUMMARY: The Architectural and Transportation Barriers Compliance Board (Access Board) has scheduled its regular business meetings to take place in Washington, DC., Wednesday through Friday, May 30-June 1, 2007, at the times and location noted below.

DATES: The schedule of events is as follows:

Wednesday, May 30, 2007

10:30 a.m.-Noon—Electronic and Information Technology Ad Hoc Committee.

1:30 p.m.-3:30 p.m.—Briefing on Outdoor Developed Areas Proposed Rule (Closed Session).

3:30 p.m.-5 p.m.—Passenger Vessels Guidelines Ad Hoc Committee (Closed Session).

Thursday, May 31, 2007

9 a.m.-10:30 a.m.—Standard Taxi Demonstration.

10:30 a.m.-Noon—Briefing on Public Rights-of-Way Rulemaking (Closed Session).

1:30 p.m.-5 p.m.—Transportation Vehicle Guidelines Ad Hoc Committee (Closed Session).

Friday, June 1, 2007

9 a.m.-10:30 a.m.—Planning and Evaluation Committee.

10:30 a.m.-Noon—Executive Committee.

1:30 p.m.-3 p.m.—Board Meeting.

ADDRESSES: All meetings will be held at The Madison Hotel, 1177 15th Street, NW., Washington, DC 20005.

FOR FURTHER INFORMATION CONTACT: For further information regarding the meetings, please contact Lawrence W. Roffee, Executive Director, (202) 272-0001 (voice) and (202) 272-0082 (TTY).

SUPPLEMENTARY INFORMATION: At the Board meeting, the Access Board will consider the following agenda items:

• Approval of the March 2007 draft Board Meeting Minutes.

• Planning and Evaluation Committee Report.

• Executive Committee Report.

• Electronic and Information Technology Ad Hoc Committee Report.

• Passenger Vessels Guidelines Ad Hoc Committee Report.

• Transportation Vehicle Guidelines Ad Hoc Committee Report.

All meetings are accessible to persons with disabilities. An assistive listening system, computer assisted real-time transcription (CART), and sign language interpreters will be available at the Board meetings. Persons attending Board meetings are requested to refrain from using perfume, cologne, and other fragrances for the comfort of other participants.

Lawrence Roffee,
Executive Director.

[FR Doc. E7-9588 Filed 5-17-07; 8:45 am]

BILLING CODE 8150-01-P